COMMITTEE FOR PURCHASE FROM PEOPLE WHO ARE BLIND OR SEVERELY DISABLED

Procurement List Proposed Addition and Deletions

AGENCY: Committee for Purchase From People Who Are Blind or Severely Disabled.

ACTION: Proposed addition to and deletions from the Procurement List.

SUMMARY: The Committee is proposing to add a service to the Procurement List that will be provided by nonprofit agency employing persons who are blind or have other severe disabilities, and deletes products previously furnished by such agencies.

Comments Must Be Received on or Before: 6/15/2015.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type: Third Party Logistics Service

Service Is Mandatory For: U.S. Department of State P.O. Box 9115, Rosslyn Station, Arlington, VA

Mandatory Source of Supply: Human Technologies Corporation, Utica, NY

Contracting Activity: Department of State, Office of Acquisition Management—MA, Arlington, VA

Deletions

The following products are proposed for deletion from the Procurement List:

Products

Product Name/NSN(s): Cushion, Chair, 7210-00-205-3544, 7210-00-205-3545

Mandatory Source of Supply: UNKNOWN

Contracting Activity: General Services Administration, Fort Worth, TX

Product Name/NSN(s): Cushion Seat, Vehicular, 2540-00-904-5680

Mandatory Source of Supply: The Douglas Center, Skokie, IL

Contracting Activity: Defense Logistics Agency Land and Maritime, Columbus, OH

Product Name/NSN(s): Stay Put Elastics Asst/MR 3202, Fashion Bobby Pin/MR 3216

Mandatory Source of Supply: Association for Vision Rehabilitation and Employment, Inc., Binghamton, NY

Contracting Activity: Defense Commissary Agency, Fort Lee, VA

Product Name/NSN(s): Duster, Lambswool/MR 992

Mandatory Source of Supply: Industries of the Blind, Inc., Greensboro, NC

Contracting Activity: Defense Commissary Agency, Fort Lee, VA

Barry S. Lineback,
Director, Business Operations.

[FR Doc. 2015-11755 Filed 5-14-15; 8:45 am]

BILLING CODE 6353-01-P